DEPARTMENT OF HEALTH AND HUMAN SERVICES

Indian Health Service

Health Promotion and Disease Prevention; Correction

ACTION: Notice; Correction.

SUMMARY: The Indian Health Service published a document in the Federal Register on April 14, 2005. The document contained eleven erros.

FOR FURTHER INFORMATION CONTACT: Contact: Patricia Spotted Horse, Division of Grants Operations, Indian Health Service, 801 Thompson Avenue, Suite 120, Rockville, MD 20852, Telephone (301) 443-5204. (This is not a toll-free number).

Correction

In the Federal Register of April 14, 2005, in FR Doc. 05-7460, on page 19772, in the second column, under Key Dates, Application Deadline correct to June 24, 2005; Application Review correct to August 9-10, 2005; Application Notification correct to September 15, 2005. On page 19773, in the third column under section II Award information item #1, 2nd sentence insert (direct and indirect cost combined) after $64,500. On page 19774, in the first column, under item #2, sentence #6 delete July 14-15 or July 20-21, 2005 and replace with August 9-10, 2005. On page 19774, in the first column under item #2, 2nd bullet, Tribal Management Grant (TMG) and replace with Health Promotion/Disease Prevention Grant; under same section bullet #5 and n6 delete TMG and replace with HP/DP Grant. On page 19774, in the third column, under item #2, bullet #8 delete 2006 and replace with 2005. On page 19775, in the second column, under item #3, 1st sentence correct to June 24, 2005. On page 19776, in the third column, under item n3, 1st sentence correct to September 15, 2005.

Dated: May 25, 2005.
Charles W. Grim,
Assistant Surgeon General Director, Indian Health Service.

[FR Doc. 05-10956 Filed 6-1-05; 8:45 am]

BILLING CODE 4165-16-M